POSTAL SERVICE

39 CFR Part 111

Extra Services Refund Time Limit

AGENCY: Postal Service™.

ACTION: Proposed rule.

SUMMARY: The Postal Service is proposing to amend Mailing Standards of the United States Postal Service, Domestic Mail Manual (DMM®) in subsection 604.9.2 to revise the time limit for extra service refunds.

DATES: Submit comments on or before June 15, 2020.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Extra Services Refund Time Limit”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC, 20260. These records are available for review on Monday through Friday, 9 a.m.-4 p.m., by calling (202) 268-2906.

FOR FURTHER INFORMATION CONTACT: Sheila Marano at (202) 268-4257, Adaisja Johnson at (202) 268-6724, or Garry Rodriguez at (202) 268-7281.

SUPPLEMENTARY INFORMATION:

Currently, DMM Exhibit 604.9.2.1, Postage and Fees Refunds, provides that a customer must apply for an extra service refund no sooner than 10 days, or no later than 60 days, from the date the service was purchased.

Certain extra services (e.g., Certified Mail®) have workflow timelines that extend beyond the current 10-day limit to initially file for a refund. As a result, to meet the required workflow timelines for these extra services, and for consistency in application of the refund processes, the Postal Service is proposing to extend the current 10-day time limit to a 30-day time limit before a customer can file for a refund.

In addition, the Postal Service is proposing to add another category for refunds, “All other classes of mail with an extra service” for consistency. This proposed revision to the 30-day time limit will apply for refunds of both pieces of all other classes of mail with an extra service and for an extra service. This revision will not affect the “Priority Mail Express® with an extra service” refund category.

We believe this proposed revision will provide customers with a more efficient process and a more consistent customer experience.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

List of Subjects in 39 CFR Part 111

Administrative practice and procedure, Postal Service.

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

604 Postage Payment Methods and Refunds

* * * * *

9.0 Exchanges and Refunds

* * * * *

9.2 Postage and Fee Refunds

* * * * *

9.2.1 General Standards

* * * * *

Exhibit 9.2.1 Postage and Fees Refunds

Customers must apply for a refund within the time limits in the chart below.

Mail type or service | When to apply (from mailing date): No sooner than | When to apply (from mailing date): No later than
* * * * * * *
[Revise the text of the “Extra Services” line item to read as follows:]
All other classes of mail with an Extra Service or Extra Services (9.2.4h) | 30 days | 60 days.

* * * * *

9.2.4 Postage and Fee Refunds Not Available

Refunds are not made for the following:

* * * * *

[Revise the text of item h to read as follows:]

h. Except for extra service fees paid with Priority Mail Express under 9.2.1, fees paid for extra services, as allowed under 9.2.3, when refund request is made by the mailer less than 30 days, or more than 60 days, from the date the service was purchased, unless otherwise authorized by the manager, Revenue and Field Accounting (see 608.8.0 for address).

* * * * *

Ruth B. Stevenson,
Attorney, Federal Compliance.

[FR Doc. 2020-09843 Filed 5-13-20; 8:45 am]

BILLING CODE 7710-12-P